DEPARTMENT OF TRANSPORTATION

Federal Aviation Administration

14 CFR Part 39

[Docket No. 2002-NM-89-AD]

RIN 2120-AA64

Airworthiness Directives; Empresa Brasileira de Aeronautica S.A. (EMBRAER) Model EMB-135 and -145 Series Airplanes

AGENCY: Federal Aviation Administration, DOT.

ACTION: Notice of proposed rulemaking (NPRM).

SUMMARY: This document proposes the adoption of a new airworthiness directive (AD) that is applicable to certain EMBRAER Model EMB-135 and -145 series airplanes. This proposal would require repetitive inspections for cracks, ruptures, or bends in certain components of the elevator control system, and replacement of discrepant components. This proposal also would require eventual modification of the elevator gust lock system to replace the mechanical system with an electromechanical system, which would terminate the repetitive inspections. This action is necessary to prevent discrepancies in the elevator control system, which could result in reduced control of the elevator and consequent reduced controllability of the airplane. This action is intended to address the identified unsafe condition.

DATES: Comments must be received by February 4, 2004.

ADDRESSES: Submit comments in triplicate to the Federal Aviation Administration (FAA), Transport Airplane Directorate, ANM-114, Attention: Rules Docket No. 2002-NM-89-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-89-AD” in the subject line and need not be submitted in triplicate. Comments sent via the Internet as attached electronic files must be formatted in Microsoft Word 97 or 2000 or ASCII text.

The service information referenced in the proposed rule may be obtained from Empresa Brasileira de Aeronautica S.A. (EMBRAER), P.O. Box 343—CEP 12.225, Sao Jose dos Campos—SP, Brazil. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-89-AD.” The postcard will be date stamped and returned to the commenter.

Availability of NPRMs

Any person may obtain a copy of this NPRM by submitting a request to the FAA, Transport Airplane Directorate, ANM-114, Attention: Rules Docket No. 2002-NM-89-AD, 1601 Lind Avenue, SW., Renton, Washington 98055-4056.

Discussion

The Departmento de Aviacao Civil (DAC), which is the airworthiness authority for Brazil, notified the FAA that an unsafe condition may exist on certain EMBRAER Model EMB-135 and -145 series airplanes. The DAC advises that cracks have been found in certain components of the elevator control system in the horizontal stabilizer area of several airplanes equipped with a mechanical gust lock system. These cracks have been attributed to damage from strong wind gusts on the ground. Such cracking, if not corrected, could result in discrepancies in the elevator control system, which could result in reduced control of the elevator and consequent reduced controllability of the airplane.

Explanation of Relevant Service Information

EMBRAER has issued Service Bulletin 145-27-0087, Change 03, dated September 27, 2002, which describes procedures for repetitive detailed inspections for cracks, ruptures, or bends in components of the elevator control system. Components subject to inspection include the limiter tubes, bellcrank assemblies, elevator control rod assemblies, quadrant bellcrank assemblies, quadrant support, stop plates, elevator primary backstops, spring tab backstops, elevator surface near the hinge points and spring tab fairings, servo tab fail-safe actuation link, spring tab attachment link, and various components of the gust lock mechanism. If any discrepancy is found, the service bulletin specifies to replace the discrepant part with a new part.

EMBRAER has also issued Service Bulletin 145-27-0075, Change 06, dated July 16, 2002. Parts I and II of that service bulletin apply to airplanes in various configurations and describe procedures for replacing the mechanical gust lock system with an electromechanical gust lock system. Specific procedures include replacing the control stand with a reworked control stand; installing a support for the reworked control stand that has a return spring system; adjusting the thrust lever resolver and microswitch contact point; reworking the forward elevator torque tube by installing a cam, support, and microswitch, as applicable; installing the spring pin position indicating mechanism and the spring cartridge assembly (including performing a detailed inspection of the area of the spring cartridge assembly to ensure that certain parts have been removed previously), as applicable; installing a gust lock alerting indication system; and accomplishing electrical connections. Part III of that service bulletin applies to airplanes modified per a previous revision of service bulletin 145-27-0075, and describes procedures for replacing the return spring and spring terminal of the gust lock control lever with improved parts.

EMBRAER has also issued Service Bulletin 145-27-0086, Change 01, dated July 3, 2002, which describes procedures for replacing the mechanical gust lock system with an electromechanical gust lock system. Part I of that service bulletin describes procedures for reworking the tail carbon box, installing the gust lock cartridge pin supports, performing an ultrasonic inspection to detect delaminations of the tail carbon box, making certain measurements using a feeler gauge and making consequent necessary adjustments, installing certain bushings, reworking horizontal stabilizer channels, installing wire supports, and reidentifying the horizontal stabilizer. Part II of that service bulletin describes procedures for installing wiring for the electromechanical gust lock system. Part IV of that service bulletin describes procedures for installing and activating the electromechanical gust lock system, including replacing the existing control stand with a control stand reworked per instructions in Part III of the service bulletin, installing a control stand support that has a return spring system, reworking the forward elevator torque tube, installing cartridge spring pins and a position-indicating mechanism at the horizontal stabilizer, and installing a gust lock alerting indication system. (The rework instructions in Part III of the service bulletin refer to EMBRAER Service Bulletin 145-22-0007 as an additional source of service information for accomplishment of the rework.)

Accomplishment of the actions specified in the applicable service bulletins is intended to adequately address the identified unsafe condition. The DAC classified this service bulletin as mandatory and issued Brazilian airworthiness directive 2002-01-01R3, dated November 8, 2002, to ensure the continued airworthiness of these airplanes in Brazil.

FAA's Conclusions

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. The FAA has examined the findings of the DAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the applicable service bulletins described previously, except as discussed below.

Differences Between Proposed AD and Service Information

EMBRAER Service Bulletin 145-27-0087, Change 03, specifies to return discrepant parts and report inspection results to the manufacturer. The proposed AD would not require these actions.

Figure 14 of the Accomplishment Instructions of EMBRAER Service Bulletin 145-27-0075, Change 06, which is referenced in the Accomplishment Instructions of that service bulletin, refers to a detailed inspection in the area of the spring cartridge assembly to ensure that certain parts have been removed previously per EMBRAER Service Bulletin 145-27-0076. The service bulletin does not specify the corrective actions that are necessary if any of these parts are installed. Thus, this proposed AD specifies that, if any parts are found in the area of the spring cartridge assembly that should have been removed per EMBRAER Service Bulletin 145-27-0076, those parts must be removed before further flight.

Similarly, Part I of the Accomplishment Instructions of EMBRAER Service Bulletin 145-27-0086, Change 01, refers to an ultrasonic inspection to detect delaminations of the tail carbon box. However, that service bulletin contains no instructions for corrective action if any delamination is found that is outside the limits specified in the service bulletin. Thus, this proposed AD specifies that any delamination outside the limits specified in the service bulletin must be repaired per a method approved by either the FAA or the DAC (or its delegated agent).

Clarification of Requirements of Proposed AD

Where Parts I and II of the Accomplishment Instructions of EMBRAER Service Bulletin 145-27-0075, Change 06, and Part IV of the Accomplishment Instructions of EMBRAER Service Bulletin 145-27-0086, Change 01, specify to remove and “send the control stand to be reworked in a workshop,” this proposed AD specifies to replace the control stand with a control stand reworked as specified in the applicable service bulletin.

Cost Impact

The FAA estimates that 300 airplanes of U.S. registry would be affected by this proposed AD.

It would take approximately 1 work hour per airplane, per inspection cycle, to accomplish the proposed inspection, at an average labor rate of $65 per work hour. Based on these figures, the cost impact of the proposed AD on U.S. operators is estimated to be $19,500, or $65 per airplane, per inspection cycle.

For airplanes subject to EMBRAER Service Bulletin 145-27-0075, Change 06, it would take up to 55 work hours to accomplish the proposed modification in that service bulletin, at an average labor rate is $65 per work hour. Required parts would cost up to $9,554 per airplane. Based on these figures, the cost impact of this proposed action is estimated to be up to $13,129 per airplane.

For airplanes subject to EMBRAER Service Bulletin 145-27-0086, Change 01, it would take approximately 120 work hours to accomplish the proposed modification in that service bulletin, at an average labor rate is $65 per work hour. Required parts would cost up to $22,708 per airplane. Based on these figures, the cost impact of this proposed action is estimated to be $30,508 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Empresa Brasileira de Aeronautica S.A. (Embraer): Docket 2002-NM-89-AD.

Applicability: Model EMB-135 and EMB-145 series airplanes, certificated in any category; serial numbers 145001 through 145189 inclusive, 145191 through 145362 inclusive, 145364 through 145373 inclusive, 145375, 145377 through 145411 inclusive, 145413 through 145424 inclusive, 145426 through 145430 inclusive, 145434 through 145436 inclusive, 145440 through 145445 inclusive, 145448, 145450, and 145801; equipped with a mechanical gust lock system.

Compliance: Required as indicated, unless accomplished previously.

To prevent discrepancies in the elevator control system, which could result in reduced control of the elevator and consequent reduced controllability of the airplane, accomplish the following:

Repetitive Inspections

(a) Within 800 flight hours after the effective date of this AD, do a detailed inspection of the elevator control system for any crack, rupture, or bend in any component, per the Accomplishment Instructions of EMBRAER Service Bulletin 145-27-0087, Change 03, dated September 27, 2002. Where this service bulletin specifies to return discrepant parts and report inspection results to the manufacturer, this AD does not require these actions. Repeat the inspection thereafter at intervals not to exceed 2,500 flight hours or 15 months, whichever is first.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Replacement of Discrepant Parts

(b) If any discrepant part is found during any inspection required by paragraph (a) of this AD, before further flight, replace the discrepant part with a new part having the same part number, per the Accomplishment Instructions of EMBRAER Service Bulletin 145-27-0087, Change 03, dated September 27, 2002.

Modification

(c) Within 10,000 flight hours or 60 months after the effective date of this AD, whichever is first, modify the elevator gust lock by accomplishing paragraph (c)(1) or (c)(2) of this AD, as applicable. This modification terminates the repetitive inspections required by paragraph (a) of this AD.

(1) For airplanes listed in EMBRAER Service Bulletin 145-27-0075, Change 06, dated July 16, 2002: Do paragraph (c)(1)(i) or (c)(1)(ii) of this AD, as applicable.

(i) Replace the mechanical gust lock system with an electromechanical gust lock system, and replace the control stand with a reworked control stand, by doing all the actions (including a detailed inspection to ensure that certain parts have been removed previously per EMBRAER Service Bulletin 145-27-0076) in and per section 3.A. (Part I) or 3.B. (Part II) of the Accomplishment Instructions of the service bulletin, as applicable. If the inspection reveals that certain subject parts have not been removed previously, before further flight, remove the subject parts per the service bulletin. Where Parts I and II of the Accomplishment Instructions of the service bulletin specify to remove and “send the control stand to be reworked in a workshop,” replace the control stand with a control stand reworked as specified in the service bulletin.

(ii) Replace the return spring and spring terminal of the gust lock control lever with improved parts by doing all the actions in and per section 3.C. (Part III) of the Accomplishment Instructions of the service bulletin.

(2) For airplanes listed in EMBRAER Service Bulletin 145-27-0086, Change 01, dated July 3, 2002: Do paragraphs (c)(2)(i), (c)(2)(ii), and (c)(2)(iii) of this AD.

(i) Rework the tail carbon box and the horizontal stabilizer by doing all the actions (including the inspection for delamination) in and per section 3.A. (Part I) of the Accomplishment Instructions of the service bulletin. If any delamination is found that is outside the limits specified in the service bulletin, before further flight, repair per a method approved by either the FAA or the Departmento de Aviacao Civil (or its delegated agent).

(ii) Install wiring and electrical components by doing all the actions in and per section 3.B. (Part II) of the Accomplishment Instructions of the service bulletin.

(iii) Install and activate the electromechanical gust lock system by doing all actions in section 3.D. (Part IV) of the Accomplishment Instructions of the service bulletin. Where Part IV of the Accomplishment Instructions of the service bulletin specifies to remove and “send the control stand to be reworked in a workshop,” replace the control stand with a control stand reworked as specified in Part III of the service bulletin.

Note 2: Part III of the Accomplishment Instructions of EMBRAER Service Bulletin 145-27-0086, Change 01, refers to EMBRAER Service Bulletin 145-22-0007 as an additional source of instructions for accomplishing the rework of the control stand.

Alternative Methods of Compliance

(d) In accordance with 14 CFR 39.19, the Manager, International Branch, ANM-116, Transport Airplane Directorate, FAA, is authorized to approve alternative methods of compliance for this AD.

Note 3: The subject of this AD is addressed in Brazilian airworthiness directive 2002-01-01R3, dated November 8, 2002.

Issued in Renton, Washington, on December 29, 2003.
Ali Bahrami,
Acting Manager, Transport Airplane Directorate, Aircraft Certification Service.

[FR Doc. 04-48 Filed 1-2-04; 8:45 am]

BILLING CODE 4910-13-P